DEPARTMENT OF COMMERCE

International Trade Administration

[A-201-845]

Sugar From Mexico: Postponement of Preliminary Determination of Antidumping Duty Investigation

AGENCY: Enforcement and Compliance, International Trade Administration, Department of Commerce.

ACTION: Notice; Sugar From Mexico: Postponement of Preliminary Determination of Antidumping Duty Investigation.

DATES: Effective Date: August 21, 2014.

FOR FURTHER INFORMATION CONTACT: David Lindgren, AD/CVD Operations, Office VII, Enforcement and Compliance, International Trade Administration, U.S. Department of Commerce, 14th Street and Constitution Avenue NW., Washington, DC 20230; telephone: (202) 482-3870.

SUPPLEMENTARY INFORMATION:

Background

On April 17, 2014, the Department of Commerce (the Department) initiated the antidumping duty (AD) investigation of sugar from Mexico.¹ Currently, the preliminary determination is due no later than September 4, 2014.

¹ See Sugar from Mexico: Initiation of Antidumping Duty Investigation, 79 FR 22795 (April 24, 2014).

Postponement of Preliminary Determination

Section 733(b)(1)(A) of the Tariff Act of 1930, as amended (the Act), and 19 CFR 351.205(b)(1) require the Department to issue the preliminary determination in an AD investigation no later than 140 days after the date on which the Department initiated the investigation. However, section 733(c)(1)(A) of the Act permits the Department to postpone making the preliminary determination until no later than 190 days after the date on which it initiated the investigation if the petitioner makes a timely request for an extension. In the instant investigation, the American Sugar Coalition and its individual members (collectively, Petitioners) made a timely request on August 11, 2014 that we postpone the preliminary AD determination.²

² See Letter to the Department regarding “Sugar from Mexico: Petitioners' Request to Extend the Deadline for the Preliminary Determination,” dated August 11, 2014.

The Department finds no compelling reason to deny the request. Therefore, pursuant to section 733(c)(1)(A) of the Act, the Department is hereby postponing the due date for the preliminary AD determination to no later than 190 days after the day on which the investigation was initiated. As a result of this postponement, the deadline for completion of the preliminary determination is now October 24, 2014.

This notice is issued and published pursuant to section 733(c)(2) of the Act and 19 CFR 351.205(f)(1).

Dated: August 14, 2014.
Ronald K. Lorentzen,
Acting Assistant Secretary for Enforcement and Compliance.

[FR Doc. 2014-19874 Filed 8-20-14; 8:45 am]

BILLING CODE 3510-DS-P